DEPARTMENT OF COMMERCE

Foreign-Trade Zones Board

[Docket B-54-2012]

Foreign-Trade Zone (FTZ) 143—West Sacramento, California; Application for Extended Production Authority; Mitsubishi Rayon Carbon Fiber and Composites, Inc. (formerly Grafil, Inc.), Subzone 143D; Opening of Comment Period on New Evidence

Production authority and subzone status were approved at the facilities of Mitsubishi Rayon Carbon Fiber and Composites, Inc. (MRCFC) for a period of five years, until May 7, 2014 (Board Order 1620, May 7, 2009; 74 FR 24798, 5/26/2009). The current application is requesting to extend indefinitely FTZ authority to produce carbon fiber from foreign-status polyacrylonitrile (PAN) precursor (B-54-2012, 77 FR 45575-44575, 8/1/2012).

On February 21, 2014, MRCFC made a submission to the FTZ Board that included new evidence in response to the examiner's preliminary recommendation for export only authority. Public comment is invited on MRCFC's new submission through April 3, 2014. Rebuttal comments may be submitted during the subsequent 15-day period, until April 18, 2014. Submissions shall be addressed to the Board's Executive Secretary at: Foreign-Trade Zones Board, U.S. Department of Commerce, Room 21013, 1401 Constitution Ave. NW., Washington, DC 20230.

A copy of MRCFC's February 21, 2014, submission will be available for public inspection at the address above, and in the “Reading Room” section of the Board's Web site, which is accessible via www.trade.gov/ftz.

For further information, contact Diane Finver at Diane.Finver@trade.gov or (202) 482-1367.

Dated: February 20, 2014.
Andrew McGilvray,
Executive Secretary.

[FR Doc. 2014-04751 Filed 3-3-14; 8:45 am]

BILLING CODE 3510-DS-P